DEPARTMENT OF DEFENSE

Department of the Air Force

Notice To Extend the Public and Agency Scoping Period and Conduct an Additional Scoping Meeting for the Environmental Impact Statement (EIS) for the Development of an Air-to-Ground Training Range in the State of Montana

The Air National Guard is issuing this notice to advise the public of its decision to extend the public and agency scoping period for the preparation of the Draft EIS which will assess the potential environmental impacts of a proposal to develop an air-to-ground training range in the State of Montana.

An additional scoping meeting will be held on December 12, 2000 at the Phillips County Library, 101/2 South 4th East, Malta, MT. The purpose of the additional scoping meeting is to address the development of additional alternatives in Phillips County. The comment period for scoping related comments has been extended to January 15, 2001 to ensure sufficient time to consider public and agency comments in the screening process and preparation of the Draft EIS. You may call 1-800-545-8680 (select option 5, Wing Headquarters) to give oral comments. If you have questions or require additional information, please contact Major Mitnik at (301) 836-8636 or (301) 836-8065. Written comments should be submitted to the following address: Montana EIS, ANG/CEVP, ATTN: Major Tammy Mitnik, 3500 Fetchet Avenue, Andrews Air Force Base, Maryland 20762.

Janet A. Long,
Air Force Federal Register Liaison Officer.

[FR Doc. 00-29518 Filed 11-16-00; 8:45 am]

BILLING CODE 5001-05-U